DEPARTMENT OF AGRICULTURE

Animal and Plant Health Inspection Service

[Docket No. 05-008-1]

National Wildlife Services Advisory Committee; Notice of Meeting

AGENCY: Animal and Plant Health Inspection Service, USDA.

ACTION: Notice of meeting.

SUMMARY: Pursuant to the Federal Advisory Committee Act, we are giving notice of a meeting of the National Wildlife Services Advisory Committee.

DATES: The meeting will be held on June 21, 22, and 23, 2005, from 8 a.m. to 5 p.m. each day.

ADDRESSES: The meeting will be held at the National Wildlife Research Center, 4101 LaPorte Avenue, Fort Collins, CO.

FOR FURTHER INFORMATION CONTACT: Ms. Joanne Garrett, Director, Operational Support Staff, WS, APHIS, 4700 River Road Unit 87, Riverdale, MD 20737-1234; (301) 734-7921.

SUPPLEMENTARY INFORMATION: The National Wildlife Services Advisory Committee advises the Secretary of Agriculture concerning policies, program issues, and research needed to conduct the Wildlife Services program. The committee also serves as a public forum enabling those affected by the Wildlife Services program to have a voice in the program's policies.

The meeting will focus on operational and research activities. The committee will discuss Wildlife Services' efforts to increase operational capacity through prioritizing research objectives. Additionally, the committee will discuss pertinent national programs, including the avian and disease programs and how to increase their effectiveness, as well as ensuring Wildlife Services remains an active participant in the goal of agricultural protection. This meeting is open to the public.

Due to time constraints, the public will not be allowed to participate in the Committee's discussions. However, written statements concerning meeting topics may be filed with the Committee before or after the meeting by sending them to the person listed under FOR FURTHER INFORMATION CONTACT, or may be filed at the meeting. Please refer to Docket No. 05-008-1 when submitting your statements.

This notice of meeting is given pursuant to section 10 of the Federal Advisory Committee Act (5 U.S.C. App. II).

Done in Washington, DC, this 28th day of March 2005.
Elizabeth E. Gaston,
Acting Administrator, Animal and Plant Health Inspection Service.

[FR Doc. E5-1458 Filed 3-31-05; 8:45 am]

BILLING CODE 3410-34-P